DEPARTMENT OF AGRICULTURE

Forest Service

Information Collection: Arctic National Wildlife Refuge Recreation Visitor Study—2013

AGENCY: Forest Service, USDA.

ACTION: Notice; request for comment.

SUMMARY: In accordance with the Paperwork Reduction Act of 1995, the Forest Service is seeking comments from all interested individuals and organizations on the new information collection, Arctic National Wildlife Refuge Recreation Visitor Study—2013.

DATES: Comments must be received in writing on or before April 1, 2013 to be assured of consideration. Comments received after that date will be considered to the extent practicable.

ADDRESSES: Comments concerning this notice should be addressed to Alan E. Watson, Aldo Leopold Wilderness Research Institute, USDA Forest Service Rocky Mountain Research Station, 790 E. Beckwith Ave., Missoula, MT 59801.

Comments also may be submitted via facsimile to (406) 542-4196 or by email to: awatson@fs.fed.us.

The public may inspect comments received at the Aldo Leopold Wilderness Research Institute, USDA Forest Service Rocky Mountain Station, 790 E. Beckwith Ave., Missoula, MT 59801 during normal business hours. Visitors are encouraged to call ahead to (406) 542-4197 to facilitate entry to the building.

FOR FURTHER INFORMATION CONTACT: Alan E. Watson, Aldo Leopold Wilderness Research Institute, (406) 542-4197.

Individuals who use TDD may call the Federal Relay Service (FRS) at 1-800-877-8339, 24 hours a day, every day of the year, including holidays.

SUPPLEMENTARY INFORMATION:

Title: Arctic National Wildlife Refuge Recreation Visitor Study—2013.

OMB Number: 0596-NEW.

Expiration Date of Approval: Not applicable.

Type of Request: New.

Abstract: The Aldo Leopold Wilderness Research Institute in Missoula, Montana, works under an interagency agreement with the U.S. Fish and Wildlife Service, Department of the Interior, to provide information in support of public wild lands management planning. The management of specific refuges is directed by laws, policies, and Comprehensive Conservation Plans. The Wilderness Act of 1964 directs the management of the National Wilderness Preservation System to protect natural wilderness conditions and provide outstanding opportunities for the public to find solitude or primitive and unconfined types of recreational experiences. The Arctic National Wildlife Refuge contains 8,000,000 acres of federally protected wilderness, Molly Beattie Wilderness, and over 11,000,000 acres of land and water managed for multiple values (e.g. subsistence, wildlife, water quality, scenic values, etc.). The wildlife refuge is also mandated to provide recreation experiences to visitors under the following laws: (1) The National Wildlife Refuge System Administration Act, as amended by the National Wildlife Refuge System Improvement Act, (2) The Refuge Recreation Act, and (3) The Alaska National Interest Lands Conservation Act.

Scientists at the Aldo Leopold Wilderness Research Institute periodically monitor and report visitor use, user characteristics, and visitor feedback on federal land management actions, to managers and the public, to help meet federal mandates related to visitor use management planning. Agency personnel use the collected information to ensure visitor recreational activity does not harm the natural resources of the refuge and to guarantee the protection of wilderness-type recreation experiences. The Agency intent is to compare 2013's recorded visitor responses to the previous survey responses, dated in 1977 before Refuge status and Wilderness designation. Additionally, the Agency will expand the scope of the survey to include visitor feedback to understand major dimensions of visitor experiences there and factors that influence those experiences. Potential factors of influence could include encounters with other visitors, subsistence users, researchers, and agency personnel, and information sources used to plan the trip. The data from this information collection will be stored at the Aldo Leopold Wilderness Research Institute in Missoula, Montana. Scientists working at the Research Institute will conduct the data analysis.

The U.S. Fish and Wildlife Service will use information from this collection to:

1. Understand changes in visitor demographics, frequency of visits, and residence,

2. Understand changes in visit characteristics, such as whether they are hunting, river floating, method of access, size of group, difficulty in finding campsites, evaluations of conditions encountered, and feedback on information available for trip planning,

3. Gain an understanding of how the agency's management of the Arctic National Wildlife Refuge and other potential factors facilitate and constrain a visitor's recreation experience,

4. Gain an understanding of how to educate recreation visitors so they do not leave impacts from their visits, such as damaged vegetation, litter, polluted lakes and streams, and wildlife disturbance while engaging in high quality, safe, and responsible recreation visits, and

5. Provide insight into what visitors value most about this place to help inform development of a Wilderness Stewardship Plan and a Visitor Use Management Plan for the Arctic National Wildlife Refuge.

Respondents will be recreation visitors to the Arctic National Wildlife Refuge. Visitors will be contacted as they enter the Refuge, or upon exit and will be provided with a postage-paid postcard that offers them alternate methods to respond to the survey: (1) Mail the postage-paid postcard to the Leopold Institute with a name and address to receive a mail back survey, (2) mail the postage-paid postcard to the Leopold Institute with an electronic email address to receive an electronic form of the survey, or (3) keep the postcard that contains a web address for on-line completion of the survey. All responses will be voluntary and confidential. Data collected in this information collection are not available from other sources and have not been collected since 1977.

This study will only ask recreation visitors, who are non-local and non-subsistence users, questions about their recreation visit, their personal demographics relevant to education and interpretation goals, and factors that have influenced or are likely to influence their recreation visits. Survey respondents will be told that this information is voluntary and confidential so their names will not be connected to their responses in any way. The Survey will not include questions related to oil exploration or development within the boundaries of the Refuge.

Estimate of Annual Burden: 20 minutes for each respondent (2 minutes on-site, 18 minutes mail-back or email back survey).

Type of Respondents: Recreation visitors to the Arctic National Wildlife Refuge.

Estimated Annual Number of Respondents: 850 targeted contacts.

Estimated Sampling Success: 65% of those agreeing to participate (80% of 850 = 680), yielding approximately 450 responses.

Estimated Annual Number of Responses per Respondent: 1.

Estimated Total Annual Burden on Respondents: 196.25 hours (contact with 850 visitors for on-site completion of survey request form; 80% agree to receive survey, 65% response—450 responses).

Comment is invited on: (1) Whether this collection of information is necessary for the stated purposes and the proper performance of the functions of the agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the request for Office of Management and Budget approval.

Dated: January 24, 2013.
Cynthia D. West,
Associate Deputy Chief, Research & Development.

[FR Doc. 2013-02090 Filed 1-30-13; 8:45 am]

BILLING CODE 3410-11-P